NATIONAL FOUNDATION ON THE ARTS AND HUMANITIES

Cooperative Agreement for: Documentation of Successful ArtsREACH and Creative Links Grant Projects

AGENCY: National Endowment for the Arts, NFAH.

ACTION: Notification of Availability.

SUMMARY: The National Endowment for the Arts is requesting proposals leading to one (1) award of a Cooperative Agreement for an effort to document successful ArtsREACH and Creative Links grant projects for use as case studies by other community-based coalitions, and for public information. Approximately 30 successful ArtsREACH projects and 15 Creative Links projects will be documentation and two publications will be prepared for printing and web site posting. In addition, materials such as photographs, audio, and/or video tapes may be assembled and prepared for posting on the Agency Web site. Those interested in receiving the solicitation package should reference Program Solicitation PS 00-05 in their written request and include two (2) self-addressed labels. Verbal requests for the Solicitation will not be honored. It is anticipated that the Program Solicitation will also be posted on the Endowment's Web site at http://www.arts.gov.

DATES: Program Solicitation PS 00-05 is scheduled for release approximately May 26, 2000 with proposals due on June 28, 2000.

ADDRESSES: Requests for the Solicitation should be addressed to the National Endowment for the Arts, Grants & Contracts Office, Room 618, 1100 Pennsylvania Ave., NW, Washington, D.C. 20506.

FOR FURTHER INFORMATION CONTACT: William Hummel, Grants & Contracts Office, National Endowment for the Arts, Room 618, 1100 Pennsylvania Ave., NW, Washington, D.C. 20506 (202/682-5482).

William I. Hummel,
Coordinator, Cooperative Agreements.

[FR Doc. 00-11854 Filed 5-10-00; 8:45 am]

BILLING CODE 7537-01-M